DEPARTMENT OF COMMERCE

National Institute of Standards and Technology

Submission for OMB Review; Comment Request

The Department of Commerce will submit to the Office of Management and Budget (OMB) for clearance the following proposal for collection of information under the provisions of the Paperwork Reduction Act (44 U.S.C. Chapter 35).

Agency: National Institute of Standards and Technology, Commerce.

Title: Proposed Information Collection; Comment Request; Organization of Scientific Area Committees for Forensic Science (OSAC) Membership Application.

OMB Control Number: 0693-0070.

Form Number(s): None.

Type of Request: Regular.

Number of Respondents: 1,000 per year.

Average Hours per Response: 30 minutes.

Burden Hours: 500 per year.

Needs and Uses: The information requested will allow NIST to fill new positions created within the Organization of Scientific Area Committees for Forensic Science (OSAC) and to replace positions vacated by resignation or rotation. Over 550 OSAC Members participate in the OSAC with up to ⅓ of them being eligible for reappointment or replacement each year. This effort provides a coordinated U.S. approach to the development of scientifically sound forensic science standards and ensures broad participation from forensic science practitioners, researchers, metrologists, quality assurance experts, defense, and prosecution.

Affected Public: Individuals or households.

Frequency: Once a year.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department Lead PRA Officer, Office of the Chief Information Officer.

[FR Doc. 2018-01566 Filed 1-26-18; 8:45 am]

BILLING CODE 3510-13-P